ENVIRONMENTAL PROTECTION AGENCY

[EPA-HQ-OPP-2019-0188; FRL-11621-01-OCSPP]

RTI International and ToxStrategies LLC; Transfer of Data (December 2023)

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to RTI International and its subcontractor, ToxStrategies LLC., in accordance with the CBI regulations. RTI International and its subcontractor, ToxStrategies LLC., have been awarded a contract to perform work for OPP, and access to this information will enable RTI International and its subcontractor, ToxStrategies LLC., to fulfill the obligations of the contract.

DATES: RTI International and its subcontractor, ToxStrategies LLC., will be given access to this information on or before December 26, 2023.

FOR FURTHER INFORMATION CONTACT: William Northern, Information Technology and Resources Management Division (7502P), Office of Pesticide Programs, Environmental Protection Agency, 1200 Pennsylvania Ave. NW, Washington, DC 20460-0001; telephone number: (202) 566-1493 email address: northern.william@epa.gov.

SUPPLEMENTARY INFORMATION:

I. General Information

A. Does this action apply to me?

This action applies to the public in general. As such, the Agency has not attempted to describe all the specific entities that may be affected by this action.

B. How can I get copies of this document and other related information?

The docket for this action, identified by docket identification (ID) number EPA-HQ-OPP-2019-0188, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (202) 566-0294. Please review the visitor instructions and additional information about the docket available at https://www.epa.gov/dockets.

II. Contractor Requirements

Under Contract No. 68HERC24F0015, RTI International and its subcontractor, ToxStrategies LLC., will manage all aspects of the task order including, but not limited to, the technical, quality assurance, schedule, cost, and communication requirements.

The Contractor shall only work on tasks in the Performance Work Statement as directed by the TOCOR. The TOCOR shall identify specific due dates for deliverables for Tasks 3-4 via technical direction. Technical direction will be provided in writing by the Contracting Officer or the TOCOR as delegated by the Contracting Officer.

The Contractor shall schedule at least biweekly meetings (teleconference, in-person, Skype, Adobe Connect, or other media) with the TOCOR to discuss the status of the work including reporting any issues with respect to schedule slip or cost overruns. The TOCOR will identify, as needed, other individuals who should participate in these calls. Additional teleconference calls may be scheduled by the TOCOR as needed. Note: Telephone or in-person reports are not replacements for required written communications.

In addition to biweekly meetings, the Contractor shall update the TOCOR via telephone (and follow-up via email) and, in writing, via email, of any issues on an ongoing basis.

The Contractor shall immediately inform the TOCOR when any hours or costs for any task has exceeded or is expected to exceed the contractor estimate by >10%.

The Contractor shall immediately inform the TOCOR of any problems that may impact the production, budget, and/or delivery of deliverables.

The Contractor shall provide the combined monthly status report and financial in PDF format, with the financial report also provided in a spreadsheet format such as Excel or CSV.

OPP has determined that access by RTI International and its subcontractor, ToxStrategies LLC., to information on all pesticide chemicals is necessary for the performance of this contract.

Some of this information may be entitled to confidential treatment. The information has been submitted to EPA under FIFRA sections 3, 4, 6, and 7 and under FFDCA sections 408 and 409.

In accordance with the requirements of 40 CFR 2.307(h)(2), the contract with RTI International and its subcontractor, ToxStrategies LLC., prohibits use of the information for any purpose not specified in the contract; prohibits disclosure of the information to a third party without prior written approval from the Agency; and requires that each official and employee of the contractor sign an agreement to protect the information from unauthorized release and to handle it in accordance with the FIFRA Information Security Manual. In addition, RTI International and its subcontractor, ToxStrategies LLC. are required to submit for EPA approval a security plan under which any CBI will be secured and protected against unauthorized release or compromise. No information will be provided to RTI International and its subcontractor, ToxStrategies LLC., until the requirements in this document have been fully satisfied. Records of information provided to RTI International and its subcontractor, ToxStrategies LLC., will be maintained by EPA Project Officers for this contract. All information supplied to RTI International and its subcontractor, ToxStrategies LLC., by EPA for use in connection with this contract will be returned to EPA when RTI International and its subcontractor, ToxStrategies LLC., have completed their work.

Authority: 7 U.S.C. 136 et seq.; 21 U.S.C. 301 et seq.

Dated: December 15, 2023.
Kimberly Smith,
Acting Director, Information Technology and Resources Management Division, Office of Program Support.

[FR Doc. 2023-28088 Filed 12-20-23; 8:45 am]

BILLING CODE 6560-50-P